DEPARTMENT OF HOMELAND SECURITY

Coast Guard

33 CFR Part 165

[Docket No. USCG-2008-0147]

RIN 1625-AA00

Safety Zone: Fireworks Display, Pasquotank River, Elizabeth City, NC

AGENCY: Coast Guard, DHS.

ACTION: Temporary final rule.

SUMMARY: The Coast Guard proposes to establish a 300 foot radius safety zone around a fireworks display for the Roanoke Bible College occurring on April 4, 2008 on the Pasquotank River, Elizabeth City, NC. This action is intended to restrict vessel traffic on the Pasquotank River. This safety zone is necessary to protect mariners from the hazards associated with firework displays.

DATES: This rule is effective from 8 p.m. to 10 p.m. on April 4, 2008.

ADDRESSES: Documents indicated in this preamble as being available in the docket are part of docket USCG-2008-0147 and are available online at http://www.regulations.gov. They are also available for inspection or copying at two locations: the Docket Management Facility (M-30), U.S. Department of Transportation, West Building Ground Floor, Room W12-140, 1200 New Jersey Avenue, SE., Washington, DC 20590, between 9 a.m. and 5 p.m., Monday through Friday, except Federal holidays, and Coast Guard Sector North Carolina, 2301 East Fort Macon Rd., Atlantic Beach, North Carolina, 28512 between 8 a.m. and 4 p.m., Monday through Friday, except Federal holidays.

FOR FURTHER INFORMATION CONTACT: If you have questions on this temporary rule, call Christopher Humphrey, Marine Event Coordinator, Sector North Carolina, (252) 247-4569. If you have questions on viewing the docket, call Renee V. Wright, Program Manager, Docket Operations, telephone 202-366-9826.

SUPPLEMENTARY INFORMATION:

Regulatory Information

We did not publish a notice of proposed rulemaking (NPRM) for this regulation. Under 5 U.S.C. 553(b)(B), the Coast Guard finds that good cause exists for not publishing an NPRM. Immediate action is needed to protect the maritime public from the hazards associated with the fireworks display and fallout over the water. The necessary information to determine whether this firework display would impact the marine public was not determined within sufficient time to publish an NPRM. For the safety concerns noted, it is in the public's best interest to have this regulation in place during the display. Coast Guard personnel will be on scene to provide actual notice to mariners who may not know about this safety zone. Also, a notice to mariners will be broadcast for this event.

Under 5 U.S.C. 553(d)(3), the Coast Guard finds that good cause exists for making this rule effective less than 30 days after publication in the Federal Register. Delaying the effective date would be contrary to public interest, since immediate action is needed to ensure the public's safety.

Background and Purpose

On April 4, 2008, the Roanoke Bible College will conduct a fireworks display adjacent to Pasquotank River, Elizabeth City, North Carolina. Spectators will be observing from both shore and from vessels. Due to the need to protect the mariners and spectators from the hazards associated with the fireworks display, vessel traffic will be temporarily restricted in this portion of the river.

Discussion of Rule

The Coast Guard is establishing a safety zone on specified waters on the Pasquotank River, adjacent to Elizabeth City, North Carolina. The regulated area will consist of a 300 feet radius safety zone around the launch site in approximate position 36°18′16″ N 076°12′52″ W, which is located approximately 500 yards east of the Camden Causeway Bridge Highway 158. The safety zone will be enforced from 8 p.m. to 10 p.m. on April 4, 2008. General navigation in the safety zone will be restricted during the event. Except for participants and vessels authorized by the Captain of the Port Representative, no person or vessel may enter or remain in the regulated area.

Regulatory Evaluation

This rule is not a “significant regulatory action” under section 3(f) of Executive Order 12866, Regulatory Planning and Review, and does not require an assessment of potential costs and benefits under section 6(a)(3) of that Order. The Office of Management and Budget has not reviewed it under that Order.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which are small entities: The owners and operators of vessels intending to transit or anchor in that portion of the Pasquotank River on April 4, 2008, between the hours of 8 p.m. and 10 p.m. The safety zone will not have a significant impact on a substantial number of small entities, because the zone will only be in place for a limited amount of time, 2 hours late in the evening when vessel traffic is low. In addition maritime advisories will be issued in advance, so the mariners can adjust their plans accordingly.

Assistance for Small Entities

Under section 213(a) of the Small Business Regulatory Enforcement Fairness Act of 1996 (Pub. L. 104-121), we offer to assist small entities in understanding the rule so that they can better evaluate its effects on them and participate in the rulemaking process. If the rule would affect your small business, organization, or governmental jurisdiction and you have questions concerning its provisions or options for compliance, please contact Christopher Humphrey, Marine Event Coordinator, Coast Guard Sector North Carolina at (252) 247-4569. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD which guides the Coast Guard in complying with the National Environmental Policy Act of 1969 (NEPA)(42 U.S.C. 4321-4370f), and have concluded that there are no factors in this case that would limit the use of a categorical exclusion under section 2.B.2 of the Instruction. Therefore, this rule is categorically excluded, under figure 2-1, paragraph (34)(g), of the Instruction, from further environmental documentation. A final “Environmental Analysis Check List” and a final “Categorical Exclusion Determination” will be available in the docket where indicated under ADDRESSES.

List of Subjects in 33 CFR Part 165

Harbors, Marine Safety, Navigation (water), Reporting & Recordkeeping requirements, Security measures, and Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191; 33 CFR 1.05-1, 6.04-1, 6.04-6, and 160.5.; Department of Homeland Security Delegation No. 0170.1.

2. Add temporary § 165.T05-014 to read as follows:

§ 165.T05-014 Safety Zone: Pasquotank River, Elizabeth City, North Carolina.

(a) Location: The following area is a safety zone: All waters of Pasquotank River within a 300 foot radius of approximate position 36°18′16″N 076°12′52″W in the Captain of the Port Sector North Carolina zone as defined in 33 CFR 3.25-20.

(b) Definition: As used in this section; Captain of the Port Representative means any U.S. Coast Guard commissioned, warrant or petty officer who has been authorized by the Captain of the Port to act on his behalf.

(c) Regulation: (1) In accordance with the general regulations in § 165.23 of this part, entry into this zone is prohibited unless authorized by the Captain of the Port or designated representative.

(2) The operator of any vessel in the immediate vicinity of this safety zone shall:

(i) Stop the vessel immediately upon being directed to do so by any commissioned, warrant or petty officer on board a vessel displaying a U.S. Coast Guard Ensign;

(ii) Proceed as directed by any commissioned, warrant or petty officer on board a vessel displaying a U.S. Coast Guard Ensign.

(3) The Captain of the Port, Sector North Carolina can be contacted at telephone number (252) 247-4570 or (252) 247-4571.

(4) Coast Guard vessels enforcing the safety zone can be contacted on VHF-FM marine band radio, Channel 13 (156.65Mhz) and Channel 16 (156.8Mhz).

(d) Enforcement period: This regulation will be enforced from 8 p.m. to 10 p.m. on April 4, 2008.

(e) Effective Date: This regulation is effective from 8 p.m. until 10 p.m. on April 4, 2008.

Dated: February 28, 2008.
G.D. Case,
Commander, U.S. Coast Guard, Acting Captain of the Port Sector North Carolina.

[FR Doc. E8-4799 Filed 3-10-08; 8:45 am]

BILLING CODE 4910-15-P